DEPARTMENT OF JUSTICE

Notice of Lodging of Consent Decree Under the Comprehensive Environmental Response, Compensation, and Liability Act of 1980 (“CERCLA”)

Consistent with section 122(d) of the Comprehensive Environmental Response, Compensation, and Liability Act of 1980, as amended (“CERCLA”), 42 U.S.C. 9622(d), and 28 CFR 50.7, notice is hereby given that on November 6, 2007, a proposed consent Decree with Powerine Oil Company, CENCO Refining Company (n/k/a Lakeland Development Company), and Energy Merchant Corp. (referred to collectively as “Settling Defendants”) in United States v. Powerine Oil Company et. al., Case No. 2:04-cv-6435 (C.D. Cal.), was lodged with the United States District Court for the Central District of California.

In this action, as set forth in the First Amended Compliant, the United States seeks to recover, pursuant to section 107 of CERCLA, 42 U.S.C. 9607, the costs incurred and to be incurred by the United States in responding to the release and/or threatened release of hazardous substances at and from the Waste Disposal Incorporated Site (“WDI Site”) in Santa Fe Springs, California, the Operating Industries Site (“OII site”), in Monterey Park, California, and the Casmalia Resources Superfund Site (“Casmalia Site”), in Casmalia, California. Under the proposed Consent Decree, Settling Defendants will pay a total of $1,450,000 as follows: 100,000.00 to the OII Site Special Account or transferred to the Hazardous Substance Superfund; $93,394.00 to the Casmalia Site Escrow Account; and $1,256,606.00 to the WDI Site Special Account or transferred to the Hazardous Substances Superfund in reimbursement of the costs incurred by the United States at the Sites. The amount of the proposed settlement is based upon financial information provided by Settling Defendants indicating a limited ability to pay.

The proposed Consent Decree will also resolve certain claims of the State of California for the Sites alleged in a related compliant for a payment of $40,000.00.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Powerine Oil Company, et. al. (DOJ Ref. No. 90-11-2-156/13).

The Consent Decree may be examined at U.S. EPA Region 9, 75 Hawthorne Street, San Francisco, CA 94105 (contact Taly Jolish, Esq. (415) 972-3925). During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States v. Powerine Oil Company, et. al (DOJ Ref. No. 90-11-2-156/13), and enclose a check in the amount of $16.00 (25 cents per page reproduction cost) payable to the U.S. Treasury, or if by e-mail or fax, forward a check in that amount to the Consent Decree Library at the stated address.

Henry S. Friedman,
Assistant Section Chief, Environmental Enforcement Section, Environment and Natural Resources Division.

[FR Doc. 07-5785 Filed 11-21-07; 8:45 am]

BILLING CODE 4410-15-M